DEPARTMENT OF HOUSING AND URBAN DEVELOPMENT

[Docket No. FR-4809-N-15]

Federal Property Suitable as Facilities To Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234, TTY number for the hearing- and speech-impaired (202) 708-2565 (these telephone numbers are not toll-free), or call the toll-free title V information line at 1-800-927-7588.

SUPPLEMENTARY INFORMATION: In accordance with 24 CFR part 581 and section 501 of the Stewart B. McKinney Homeless Assistance Act (42 U.S.C. 11411), as amended, HUD is publishing this notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this notice according to the following categories: Suitable/available suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expression of interest as soon as possible. For complete details concerning the processing of application, the reader is encouraged to refer to the interim rule governing this program, 24 CFR part 581.

For properties listed as suitable/to be excess, that property may, if subsequently accepted as excess by GSA, be made available for use by the homeless in accordance with applicable law, subject to screening for other Federal use. At the appropriate time, HUD will publish the property in a notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to Mark Johnston at the address listed at the beginning of this notice. Included in the request for review should be the property address (including zip code), the date of publication in the Federal Register, the landholding agency, and the property number.

For more information regarding particular properties identified in this notice (i.e., acreage, floor plan, existing sanitary facilities, exact street address), providers should contact the appropriate landholding agencies at the following addresses: Agriculture: Ms. Marsha Pruitt, Department of Agriculture, Reporters Building, 300 7th Street, SW., Room 310B, Washington, DC 20250; (202) 720-4335; Energy: Mr. Tom Knox, Department of Energy, Office of Engineering & Construction Management, CR-80, Washington, DC 20585; (202) 586-8715; GSA: Mr. Brian K. Polly, Assistant Commissioner, General Services Administration, Office of the Property Disposal, 18th and F Streets, NW., Washington, DC 20450; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: April 3, 2003.
John D. Garrity,
Director, Office of Special Needs Assistance Programs.

TITLE V, FEDERAL SURPLUS PROPERTY PROGRAM, FEDERAL REGISTER REPORT FOR 4/11/03

Suitable/Available Properties

Buildings (by State)

Iowa

Fed. Bldg./Bldg. 87

6921 Chaffee Road

Ft. Des Moines Co: Polk IA 50315-

Landholding Agency: GSA

Property Number: 54200310022

Status: Surplus

Comment: 8375 sq. ft., presence of asbestos, most recent use—storage

GSA Number: 7-G-IA-501

Post Office/Fed. Bldg.

101 Parkside

West Branch Co: Cedar IA 52358-

Landholding Agency: GSA

Property Number: 54200310023

Status: Surplus

Comment: 9500 sq. ft.

GAS Number: 7-G-IA-505

New Jersey

Warren Property

Jenks Hill Road

Harding Co: Morris NJ 07960-

Landholding Agency: Interior

Property Number: 61200310019

Status: Unutilized

Comment: 4066 sq. ft., needs major rehab, presence of asbestos/lead paint, off-site use only

Pennsylvania

Marienville Ranger Ofc.

Rte 66

Marienville Co: PA 16239-

Landholding Agency: Agriculture

Property Number: 15200310001

Status: Excess

Comment: 1792 sq. ft., presence of asbestos, most recent use—office, considerable relocation costs, off-site use only

Texas

Tract 104-47

San Antonio Missions

8902 Graaf Road

San Antonio Co: Bexar TX 78223-

Landholding Agency: Interior

Property Number: 61200310003

Status: Unutilized

Comment: 1379 sq. ft., Historic District, off-site use only

Virginia

Bldg. 1443 & Adj. Bldg.

NSS Norfolk Naval Shipyard

Portsmouth Co: VA 23704-

Landholding Agency: Navy

Property Number: 77200310060

Status: Excess

Comment: approx. 400 sq. ft. each, most recent use—storage, off-site use only

Unsuitable Properties

Buildings (by State)

California

Bldg. 6255

National Park

Yosemite Co: Tuolumne CA

Landholding Agency: Interior

Property Number: 61200310004

Status: Unutilized

Reason: Extensive deterioration

Residence #811

Cascades

Yosemite Co: Mariposa CA 95318-

Landholding Agency: Interior

Property Number: 61200310005

Status: Unutilized

Reason: Extensive deterioration

Residence #812

Cascades

Yosemite Co: Mariposa CA 95318-

Landholding Agency: Interior

Property Number: 61200310006

Status: Unutilized

Reason: Extensive deterioration

Residence #813

Cascades

Yosemite Co: Mariposa CA 95318-

Landholding Agency: Interior

Property Number: 61200310007

Status: Unutilized

Reason; Extensive deterioration

Residence #814

Cascades

Yosemite Co: Mariposa CA 95318-

Landholding Agency: Interior

Property Number: 61200310008

Status: Unutilized

Reason; Extensive deterioration

Residence #815

Cascades

Yosemite Co: Mariposa CA 95318-

Landholding Agency: Interior

Property Number: 61200310009

Status: Unutilized

Reason; Extensive deterioration

Residence #816

Cascades

Yosemite Co: Mariposa CA 95318-

Landholding Agency: Interior

Property Number: 61200310010

Status: Unutilized

Reason: Extensive deterioration

Residence #817

Cascades

Yosemite Co: Mariposa CA 95318-

Landholding Agency: Interior

Property Number: 61200310011

Status: Unutilized

Reason: Extensive deterioration

Residence #818

Cascades

Yosemite Co: Mariposa CA 95318-

Landholding Agency: Interior

Property Number: 61200310012

Status: Unutilized

Reason: Extensive deterioration

Residence #819

Cascades

Yosemite Co: Mariposa CA 95318-

Landholding Agency: Interior

Property Number: 61200310013

Status: Unutilized

Reason: Extensive deterioration

Residence #820

Cascades

Yosemite Co: Mariposa CA 95318-

Landholding Agency: Interior

Property Number: 61200310014

Status: Unutilized

Reason: Extensive deterioration

Residence #821

Cascades

Yosemite Co: Mariposa CA 95318-

Landholding Agency: Interior

Property Number: 61200310015

Status: Unutilized

Reason: Extensive deterioration

Colorado

Boker/Tract 01-138

20632 Trail Ridge

Grand Lake Co: Grand CO 80447-

Landholding Agency: Interior

Property Number: 61200310016

Status: Unutilized

Reason: Extensive deterioration

Boker/Tract 01-138

20633 Trail Ridge

Grand Lake Co: Grand CO 80447-

Landholding Agency: Interior

Property Number: 61200310017

Status: Unutilized

Reason: Extensive deterioration

Florida

Bldg. 292

Naval Air Facility

Key West Co: Monroe FL 33040-

Landholding Agency: Navy

Property Number: 77200310058

Status: Unutilized

Reason: Extensive deterioration

Bldg. 1481

Naval Air Station

Milton Co: FL 32570-6001

Landholding Agency: Navy

Property Number 77200310059

Status: Excess

Reasons: Within 2000 ft. of flammable or explosive material, secured area, extensive deterioration

Louisiana

Mamolo Property,

National Park,

Marrero Co: Jefferson LA 70072-

Landholding Agency: Interior.

Property Number: 61200310018.

Status: Excess.

Reason: Extensive deterioration.

New Mexico

Trailer #S-8,

Chaco Culture NHP,

Nageezi Co: San Juan NM 87037-

Landholding Agency: Interior.

Property Number: 61200310020.

Status: Unutilized.

Reason: Extensive deterioration.

Texas

5 Bldgs.

Pantex Plant.

Amarillo Co: Carson TX 79120-

Location: 12-091, 15-023, 15-023A, 16-006, FS-008

Landholding Agency: Energy

Property Number: 41200310021

Status: unutilized.

Reasons: Within 2000 ft. of flammable or explosive material, secured Area.

Tract No. 112-15

Big Thicket Nat'l Preserve

Livingston Co: Polk TX 77351-

Landholding Agency: Interior

Property Number: 61200310021

Status: Unutilized

Reason: Extensive deterioration

[FR Doc. 03-8548 Filed 4-10-03; 8:45 am]

BILLING CODE 4210-29-M